DEPARTMENT OF LABOR

Employment and Training Administration

[TA-W-64,979]

Fiberweb, PLC, Simpsonville, SC; Notice of Affirmative Determination Regarding Application for Reconsideration

By application dated April 18, 2009, the petitioners requested administrative reconsideration of the negative determination regarding workers' eligibility to apply for Trade Adjustment Assistance (TAA) and Alternative Trade Adjustment Assistance (ATAA) applicable to workers and former workers of the subject firm. The determination was issued on March 4, 2009. The Notice of Determination was published in the Federal Register on March 19, 2009 (74 FR 11760).

The initial investigation resulted in a negative determination based on the finding that imports of filtration media did not contribute importantly to worker separations at the subject firm. The investigation also revealed that the subject firm did not shift production of filtration media to a foreign country during the relevant period.

In the request for reconsideration, the petitioner alleged that the workers of the subject firm also produced non-filtration products. The petitioner also alleged that the subject firm shifted production of non-filtration products abroad and also increased imports of non-filtration products during the relevant period.

The Department carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 12th day of May 2009.
Elliott S. Kushner,
Certifying Officer, Division of Trade Adjustment Assistance.

[FR Doc. E9-14069 Filed 6-15-09; 8:45 am]

BILLING CODE 4510-FN-P